DEPARTMENT OF THE TREASURY

Bureau of Alcohol, Tobacco and Firearms

27 CFR Parts 4, 5, and 7

[Notice No. 896; Re: Notice Nos. 884 and 892]

RIN 1512-AB97

Health Claims and Other Health-Related Statements in the Labeling and Advertising of Alcohol Beverages; Cancellation and Rescheduling of Public Hearings (99R-199P)

AGENCY: Bureau of Alcohol, Tobacco and Firearms (ATF), Department of the Treasury.

ACTION: Notice of proposed rulemaking; cancellation and rescheduling of public hearings.

SUMMARY: Due to the low number of requests to present oral comments, the Bureau of Alcohol, Tobacco and Firearms (ATF) is announcing the cancellation of three public hearings that were to be held concerning health claims and other health-related statements in the labeling and advertising of alcohol beverages. In addition, the hearings scheduled for Washington, DC and San Francisco, California will be limited to two days. We are also changing the date for submission of written (or e-mail) comments.

DATES: The revised hearing dates are:

1. April 25 and April 26, 2000, 10:00 a.m. to 5 p.m., Washington, DC.

2. May 23 and May 24, 2000, 10:00 a.m. to 5 p.m., San Francisco, CA.

Written (or e-mail) comments addressing Notice Nos. 884 and 892, as well as comments addressing testimony presented at the hearings, must be received on or before June 30, 2000.

ADDRESSES: The hearing locations are:

1. Washington, DC—Washington Convention Center, 900 Ninth Street, NW., Washington, DC 20001.

2. San Francisco—Embassy Suites San Francisco Airport, 150 Anza Boulevard, Burlingame, CA 94010.

FOR FURTHER INFORMATION CONTACT: Nancy Kern or Jim Ficaretta, Regulations Division, Bureau of Alcohol, Tobacco and Firearms, 650 Massachusetts Avenue, NW., Washington, DC 20226 (202-927-8210).

SUPPLEMENTARY INFORMATION:

Background

On February 28, 2000, ATF published a notice in the Federal Register (Notice No. 892; 65 FR 10434) announcing the dates and locations of five public hearings that we planned to hold concerning health claims and other health-related statements in the labeling and advertising of alcohol beverages.

The notice provided that persons wishing to testify at the hearings should submit a written notification to ATF on or before April 7, 2000. As of April 18, 2000, we had received only seven requests to testify in Atlanta; seven requests to testify in Chicago; and three requests to testify in Dallas. We do not consider that this constitutes a sufficient number of requests to justify the expense of holding these three hearings. Accordingly, we are canceling the hearings that were scheduled for Atlanta, Chicago, and Dallas. Those persons who requested to appear at these hearings have been offered several alternatives, including attending one of the remaining two scheduled hearings in Washington, DC and San Francisco, California, or submitting their written comments.

The hearings scheduled for Washington, DC and San Francisco will be limited to two days. The hearing in Washington, DC will be held on April 25 and 26, and the hearing in San Francisco will be held on May 23 and 24. The hearings in both locations will start at 10:00 a.m.

We will accept written (or e-mail) comments addressing our earlier notices on this subject, Notice No. 892 and Notice No. 884 (October 25, 1999; 64 FR 57413), as well as comments addressing testimony presented at the forthcoming hearings, until June 30, 2000. This date is approximately one month after the close of the public hearings.

Drafting Information

The author of this document is James P. Ficaretta, Regulations Division, Bureau of Alcohol, Tobacco and Firearms.

Authority and Issuance

This notice is issued under the authority of 27 U.S.C. 205.

Signed: April 19, 2000.
Bradley A. Buckles,
Director.

[FR Doc. 00-10309 Filed 4-21-00; 10:42 am]

BILLING CODE 4810-31-P